NUCLEAR REGULATORY COMMISSION

[Docket No. 030-28641; NRC-2014-0160]

Department of the Air Force, Kirtland Air Force Base, New Mexico

AGENCY: Nuclear Regulatory Commission.

ACTION: Environmental assessment and finding of no significant impact; notice of availability.

SUMMARY: The U.S. Nuclear Regulatory Commission (NRC) is considering an amendment to License No. 42-23539-01AF (Docket No. 030-28641) which authorizes the unrestricted release of Radioactive Waste Site RW-06 at Kirtland Air Force Base. The NRC has reviewed the Department of the Air Force's final status survey report and conducted an independent confirmatory survey of the site. The NRC concludes that the site meets the radiological criteria established in regulations for unrestricted use. The NRC plans to approve the final status survey report and issue an amendment to the license which allows Site RW-06 to be released for unrestricted use.

ADDRESSES: Please refer to Docket ID NRC-2014-0160 when contacting the NRC about the availability of information regarding this document. You may obtain publicly-available information related to this document using any of the following methods:

• Federal Rulemaking Web site: Go to http://www.regulations.gov and search for Docket ID NRC-2014-0160. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Ray L. Kellar, Division of Nuclear Materials Safety, Region IV, telephone: 817-200-1191, email: Ray.Kellar@nrc.gov; U.S. Nuclear Regulatory Commission, Arlington, Texas, 76011.

SUPPLEMENTARY INFORMATION:

I. Introduction

The NRC is issuing a license amendment to Material License No. 42-23539-01AF, issued to the Department of the Air Force (the licensee), to authorize release of Radioactive Waste Site RW-06 at Kirtland Air Force Base, New Mexico, for unrestricted use, and has prepared an Environmental Assessment (EA) in support of this amendment in accordance with the requirements of Part 51 of Title 10 of the Code of Federal Regulations. Based on the EA, the NRC has concluded that a Finding of No Significant Impact (FONSI) is appropriate. The license amendment will be issued following the publication of this Notice.

II. EA Summary

The purpose of the proposed license amendment is to authorize the release of the licensee's Radioactive Waste Site RW-06 for unrestricted use and to allow the licensee to remove this site from its license. The licensee was previously authorized by the NRC to possess radioactive materials at the RW-06 site. These radioactive materials include buried wastes from previous laboratory operations. The licensee remediated the site in 2009. On November 3, 2011, the licensee requested that NRC release the site for unrestricted use. In response, the NRC proceeded to confirm if the licensee conducted surveys of the facility and provided sufficient information to the NRC to demonstrate that the site meets the license termination criteria in Subpart E of Part 20 of Title 10 of the Code of Federal Regulations (10 CFR) for unrestricted release.

The NRC conducted an environmental assessment of this decommissioning project as required by 10 CFR 51.21. The staff has prepared this EA and associated Technical Evaluation Report in support of the proposed license amendment. In summary, the NRC staff concluded that the licensee designed and implemented the final status survey plan using the guidance provided in NUREG-1575, “Multi-Agency Radiation Survey and Site Investigation Manual (MARSSIM).” The NRC staff confirmed that the licensee implemented the final status survey as stipulated in the survey plan, and the licensee submitted a final status survey report to the NRC as required by 10 CFR 30.36(j). The results of the amended final status survey report indicate that Radioactive Waste Site RW-06 meets the derived concentration guideline level criteria specified in MARSSIM and NUREG-1757, “Consolidated Decommissioning Guidance,” Volume 1. The NRC staff conducted a confirmatory survey during March 2011, confirming that the licensee had effectively remediated the site.

Section 20.1402 states that a site will be considered acceptable for unrestricted use if the residual radioactivity that is distinguishable from background radiation results in a total effective dose equivalent to an average member of the critical group that does not exceed 25 millirems (0.25 milliSieverts) per year. The licensee's final status survey report documents that Radioactive Waste Site RW-06 meets the criteria established in 10 CFR 20.1402. The NRC has reviewed and approved the final status survey report, and the NRC has conducted a confirmatory survey to confirm the licensee's survey results. Therefore, Radioactive Waste Site RW-06 can be released by the licensee for unrestricted use.

The State of New Mexico was offered an opportunity to review and comment on the draft EA, FONSI, and Technical Evaluation Report used to support the licensing action. The State provided the NRC with comments by letter dated January 30, 2014. The State had questions and comments on the radioactive contaminants as they relate to the release of Site RW-06 for unrestricted use based on dose. The Department of the Air Force responded to the State's comments by Memorandum dated April 8, 2014. The State had no further comments on this EA and FONSI.

III. Finding of No Significant Impact

On the basis of the EA, the NRC has concluded that there are no significant environmental impacts from the proposed amendment and has determined not to prepare an environmental impact statement.

IV. Availability of Documents

The ADAMS accession numbers for the documents related to this notice are:

Document | ADAMS accession No.
U.S. Nuclear Regulatory Commission, NUREG-1575, Revision 1, “Multi-Agency Radiation Survey and Site Investigation Manual (MARSSIM),” August 2000 | ML082310759
U.S. Nuclear Regulatory Commission, NUREG-1757, Volume 1, Revision 2, “Consolidated Decommissioning Guidance,” September 2006 | ML063000243
U.S. Nuclear Regulatory Commission, NRC Inspection Report 030-28641/11-002, June 29, 2011 | ML111801367
Department of the Air Force, Final Status Survey Report, Site RW-06, Kirtland Air Force Base, Albuquerque, New Mexico, November 3, 2011 | ML11363A116
U.S. Nuclear Regulatory Commission, Request for Additional Information About the Department of Air Force's Final Status Survey Report for Site RW-06 at Kirtland Air Force Base, July 26, 2012 | ML12208A175
Department of the Air Force, Additional Information to Support Final Status Survey for Site RW-06, Kirtland Air Force Base, New Mexico, October 11, 2012 | ML13186A161
New Mexico Environment Department, Request for Comment on Draft Environmental Assessment for Decommissioning at Kirtland Air Force Base, January 30, 2014 | ML14064A359
Department of the Air Force, Response to Request for Comments on Draft Environmental Assessment for Decommissioning Kirtland Air Force Base, April 8, 2014 | ML14120A421

Dated at Arlington, Texas this 01st day of August 2014.
For the Nuclear Regulatory Commission.
Ray L. Kellar,
Chief, Repository and Spent Fuel Safety Branch, Division of Nuclear Materials Safety, Region IV.

[FR Doc. 2014-19280 Filed 8-13-14; 8:45 am]

BILLING CODE 7590-01-P